DEPARTMENT OF LABOR

Employment and Training Administration

[TA-W-59,056]

Lollytogs, Ltd., Greensboro, NC; Notice of Termination of Investigation

Pursuant to section 221 of the Trade Act of 1974, as amended, an investigation was initiated on March 16, 2006 in response to a worker petition filed on behalf of workers at Lollytogs, Ltd., Greensboro, North Carolina.

The Department issued a negative determination (TA-W-59,060) applicable to the petitioning group of workers on April 3, 2006. No new information or change in circumstances is evident which would result in a reversal of the Department's previous determination. Consequently, further investigation would serve no purpose, and the investigation has been terminated.

Signed at Washington, DC this 14th day of April 2006.
Richard Church,
Certifying Officer, Division of Trade Adjustment Assistance.

[FR Doc. E6-6845 Filed 5-4-06; 8:45 am]

BILLING CODE 4510-30-P